DEPARTMENT OF TRANSPORTATION

Federal Aviation Administration

Eighth Meeting: RTCA Tactical Operations Committee (TOC)

AGENCY: Federal Aviation Administration (FAA), U.S. Department of Transportation (DOT).

ACTION: Eighth Meeting Notice of RTCA Tactical Operations Committee.

SUMMARY: The FAA is issuing this notice to advise the public of the seventh meeting of the RTCA Tactical Operations Committee.

DATES: The meeting will be held February 5th from 11:00 a.m.-4:00 p.m.

ADDRESSES: The meetings will be held at RTCA Headquarters, RTCA, Inc., 1150 18th Street NW., Suite 910, Washington DC 20036.

FOR FURTHER INFORMATION CONTACT: The RTCA Secretariat, 1150 18th Street NW., Suite 910, Washington, DC 20036, or by telephone at (202) 833-9339, fax at (202) 833-9434, or Web site at http://www.rtca.org or Trin Mitra, TOC Secretary, tmitra@rtca.org, 202-330-0655.

SUPPLEMENTARY INFORMATION: Pursuant to section 10(a)(2) of the Federal Advisory Committee Act (Pub. L. 92-463, 5 U.S.C., App.), notice is hereby given for a meeting of the RTCA Tactical Operations Committee. The agenda will include the following:

February 5th

• Opening of Meeting/Introduction of TOC Members—Co Chairs Jim Bowman and Dale Wright

• Official Statement of Designated Federal Official—Elizabeth Ray

• Approval of November 20, 2014 Meeting Summary

• FAA Report

• Recommendation from NOTAM Task Group: Feedback on Phase 1 Implementation of NOTAM Search

• Briefing from Fedex on Safety Learnings in NOTAMs

• Discuss Potential Ideas for Future TOC Effort: Remote Towers, UAS, TBFM, NSAAP

• Introduce New Task: Exclusion Zones and GPS Adjacent Band Compatibility Study

• FAA Response to VOR MON Recommendation on Task #4

• Review Status of Ongoing Tasks: VOR MON, Eastern Regional Task Group, Class B, Airport Construction

• Anticipated Issues for TOC consideration and action at the next meeting

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 20, 2015.
Mohannad Dawoud,
Management Analyst, NextGen, Program Oversight and Administration, Federal Aviation Administration.

[FR Doc. 2015-01143 Filed 1-20-15; 4:15 pm]

BILLING CODE 4910-13-P